ENVIRONMENTAL PROTECTION AGENCY

[FRL-9939-21-Region 10]

Proposed CERCLA Administrative Settlement; Bremerton Auto Wrecking/Gorst Creek Landfill Site, Port Orchard, Washington

AGENCY: Environmental Protection Agency (EPA).

ACTION: Notice of proposed settlement; request for public comment.

SUMMARY: Notice is hereby given of a proposed administrative settlement for payment of response costs at the Bremerton Auto Wrecking/Gorst Creek Landfill Site in Port Orchard, Washington with the United States Department of the Navy and the ST Trust. The payment of response costs will fund implementation of a response action currently estimated to cost approximately $27,605,000. The proposed settlement will provide the settling parties with a release of liability subject to certain rights reserved by the Agency. The proposed settlement has been reviewed by the Department of Justice.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Environmental Protection Agency (EPA) Region 10 offices, located at 1200 Sixth Avenue, Seattle, Washington 98101.

DATES: Comments must be submitted on or before December 23, 2015.

ADDRESSES: The proposed settlement is available for public inspection at the U.S. EPA Region 10 offices, located at 1200 Sixth Avenue, Seattle, Washington 98101. A copy of the proposed settlement may be obtained from Teresa Luna, Regional Hearing Clerk, U.S. EPA Region 10, Mail Stop ORC-113, 1200 Sixth Avenue, Suite 900, Seattle, Washington 98101; (206) 553-1632. Comments should reference the Bremerton Auto Wrecking/Gorst Creek Landfill in Port Orchard, Washington, EPA Docket No. CERCLA-10-2016-0041 and should be addressed to Alexander Fidis, Assistant Regional Counsel, U.S. EPA Region 10, Mail Stop ORC-113, 1200 Sixth Avenue, Suite 900, Seattle, Washington 98101.

FOR FURTHER INFORMATION CONTACT: Alexander Fidis, Assistant Regional Counsel, U.S. EPA Region 10, Mail Stop ORC-113, 1200 Sixth Avenue, Suite 900, Seattle, Washington 98101; (206) 553-4710.

SUPPLEMENTARY INFORMATION: In accordance with Section 122(i) of the Comprehensive Environmental Response, Compensation and Liability Act (CERCLA), 42 U.S.C. 9622(i), EPA is providing notice of a proposed administrative settlement for payment of response costs at the Bremerton Auto Wrecking/Gorst Creek Landfill Site in Port Orchard, Washington with the following settlement parties: The United States Department of the Navy and the ST Trust. The Bremerton Auto Wrecking/Gorst Creek Landfill Site is a triangular shaped parcel of approximately 5.7 acres located within a ravine through which Gorst Creek flows. To create the landfill Gorst Creek was channeled through a 24-inch steel culvert placed at the bottom of the ravine. From 1968 until 1989, waste was disposed in the creek ravine on top of the culvert. The weight of the waste has crushed the culvert in at least two locations and diminished flow capacity. The diminished flow capacity causes Gorst Creek to impound upstream of the landfill, resulting in water seeping through and flowing over the surface of the landfill. During periods of heavy precipitation erosion of the landfill disperses waste material and debris into the downstream reaches of Gorst Creek. The landfill is estimated to contain approximately 150,000 cubic yards of waste.

The Agency is proposing to enter into an administrative agreement with the settling parties to fund a response action to remove and properly dispose of waste disposed in the creek ravine. Following waste removal, the creek ravine will be restored to provide proper hydrological and ecological functions, including restoration of fish habitat and migration. The response action is expected to take approximately one-year and will cost an estimated $27,605,000. The proposed settlement will provide the settling parties with a release of liability subject to certain rights reserved by the Agency.

Dated: November 16, 2015.
Richard Albright,
Director, Office of Environmental Cleanup.

[FR Doc. 2015-29798 Filed 11-20-15; 8:45 am]

BILLING CODE 6560-50-P